DEPARTMENT OF ENERGY

Federal Energy Regulatory Commission

[Docket No. CP09-3-000; PF08-19-000]

T.W. Phillips Pipeline Corporation; Notice of Application

October 16, 2008.

Take notice that on October 6, 2008, T.W. Phillips Pipeline Corporation (T.W. Phillips), 502 Keystone Dr., Suite 400, Warrendale, PA 15086, filed in the above referenced docket an application pursuant to section 7(c) of the Natural Gas Act (NGA) and Parts 157 and 284 of the Commission's regulations, for an order granting a certificate of public convenience and necessity to (1) Construct, own, operate, and maintain an eight-mile, six-inch diameter interstate pipeline facility located in Clearfield County, Pennsylvania (Bionol Project); (2) provide open access transportation pursuant to a blanket certificate issued under Subpart G of Part 284 of the Commission's regulations; and (3) perform certain routine construction activities pursuant to a blanket certificate issued under Subpart F of Part 157 of the Commission's regulations. T.W. Phillips states that the sole transportation customer of the Bionol Project will be Bionol Clearfield, LLC, who has a negotiated rate contract. T.W. Phillips also proposes a pro forma FERC Gas Tariff, including the proposed recourse rates, all as more fully set forth in the application which is on file with the Commission and open to public inspection. The filing is available for review at the Commission in the Public Reference Room or may be viewed on the Commission's Web site at http://www.ferc.gov using the “eLibrary” link. Enter the docket number excluding the last three digits in the docket number field to access the document. For assistance, contact FERC at FERCOnlineSupport@ferc.gov or call toll-free, (886) 208-3676 or TYY, (202) 502-8659.

Any questions concerning this application may be directed to Robert M. Hovanec, T.W. Phillips Pipeline Corporation, 502 Keystone Dr., Suite 400, Warrendale, PA 15086 at (724) 287-8620, or William R. Mapes, Jr., Duncan, Weinberg, Genzer & Pembroke P.C., 1615 M St., NW., Suite 800, Washington, DC at (202) 467-6370.

On May 5, 2008, the Commission staff granted T.W. Phillips' request to utilize the Pre-Filing Process and assigned Docket No. PF08-19-000 to staff activities involved with the Bionol Project. Now as of the filing of the October 6, 2008 application, the Pre-Filing Process for this project has ended. From this time forward, this proceeding will be conducted in Docket No. CP09-3-000, as noted in the caption of this Notice.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: November 6, 2008.

Kimberly D. Bose,
Secretary.

[FR Doc. E8-25137 Filed 10-21-08; 8:45 am]

BILLING CODE 6717-01-P